DEPARTMENT OF THE TREASURY

Office of Foreign Assets Control

31 CFR Part 560

Publication of Iranian Transactions and Sanctions Regulations Web General License M and Subsequent Iterations

AGENCY: Office of Foreign Assets Control, Treasury.

ACTION: Publication of web general licenses.

SUMMARY: The Department of the Treasury's Office of Foreign Assets Control (OFAC) is publishing three general licenses (GLs) issued in the Iranian Transactions and Sanctions program: GLs M, M-1, and M-2, each of which was previously made available on OFAC's website.

DATES: GL M-2 was issued on August 25, 2022. See SUPPLEMENTARY INFORMATION for additional relevant dates.

FOR FURTHER INFORMATION CONTACT: OFAC: Assistant Director for Licensing, 202-622-2480; Assistant Director for Regulatory Affairs, 202-622-4855; or Assistant Director for Sanctions Compliance & Evaluation, 202-622-2490.

SUPPLEMENTARY INFORMATION:

Electronic Availability

This document and additional information concerning OFAC are available on OFAC's website: www.treas.gov/ofac.

Background

On October 29, 2020, OFAC issued GL M to authorize certain transactions otherwise prohibited by the Iranian Transaction and Sanctions Regulations, 31 CFR part 560. GL M had an expiration date of September 1, 2021. On August 24, 2021, OFAC issued GL M-1, which replaced and superseded GL M and had an expiration date of September 1, 2022. On August 25, 2022, OFAC issued GL M-2, which replaced and superseded GL M-1 and has an expiration date of September 1, 2023. All three GLs were made available on OFAC's website (www.treas.gov/ofac) at the time of publication. The text of GLs M, M-1, and M-2 is provided below.

OFFICE OF FOREIGN ASSETS CONTROL

Iranian Transactions and Sanctions Regulations

31 CFR Part 560

GENERAL LICENSE M

Authorizing the Exportation of Certain Graduate Level Educational Services and Software

(a) Except as provided in paragraph (c) of this general license, accredited graduate and undergraduate degree-granting academic institutions located in the United States (collectively, “U.S. academic institutions”), including their contractors, are authorized through 12:01 a.m. eastern daylight time, September 1, 2021, to engage in the following activities with respect to Iranian students described in paragraph (b):

(1) Online Educational Services. The provision of online educational services related to graduate educational courses, provided that the courses are the equivalent of courses ordinarily required for the completion of graduate degree programs in the humanities, social sciences, law, or business, or are introductory science, technology, engineering, or mathematics courses ordinarily required for the completion of graduate degree programs in the humanities, social sciences, law, or business, and participation in all activities related to the provision of such online educational services to Iranian students described in paragraph (b).

(2) Exportation of Software. The exportation of software to Iranian students described in paragraph (b) in order to facilitate participation in the activities authorized in (i) paragraph (a) of this general license or (ii) paragraph (b)(1)(iii) of Iran General License G, provided such software is designated as EAR99 under the Export Administration Regulations, 15 CFR parts 730 through 774 (EAR), or constitutes information or software not subject to the EAR pursuant to 15 CFR 734.3(b)(3).

(b) Iranian students referred to in paragraph (a) are individuals located in Iran, or located outside Iran but who are ordinarily resident in Iran, who are eligible for non-immigrant classification under categories F (students) or M (non-academic students), and have been granted a non-immigrant visa by the U.S. State Department, but are not physically present in the United States due to the COVID-19 pandemic.

(c) This general license does not authorize the exportation or reexportation of any services or software to the Government of Iran or any other person whose property and interests in property are blocked pursuant to 31 CFR chapter V.

Note 1 to General License M: The importation from Iran and the exportation to Iran of information or informational materials, as defined in 31 CFR 560.315, whether commercial or otherwise, regardless of format or medium of transmission, are exempt from the prohibitions of 31 CFR part 560. See 31 CFR 560.210(c).

Note 2 to General License M: U.S. persons are authorized to engage in the exportation of certain educational services under Iran General License G, which was issued pursuant to 31 CFR part 560, and to export, reexport, and provide certain services, software, and hardware incident to personal communications under Iran General License D-1, which was issued pursuant to 31 CFR part 560.

Andrea Gacki,

Director, Office of Foreign Assets Control.

Dated: October 29, 2020.

OFFICE OF FOREIGN ASSETS CONTROL

Iranian Transactions and Sanctions Regulations

31 CFR Part 560

GENERAL LICENSE M-1

Authorizing the Exportation of Certain Graduate Level Educational Services and Software

(a) Except as provided in paragraph (c) of this general license, accredited graduate and undergraduate degree-granting academic institutions located in the United States (collectively, “U.S. academic institutions”), including their contractors, are authorized through 12:01 a.m. eastern daylight time, September 1, 2022, to engage in the following activities with respect to Iranian students described in paragraph (b):

(1) Online Educational Services. The provision of online educational services related to graduate educational courses, provided that the courses are the equivalent of courses ordinarily required for the completion of graduate degree programs in the humanities, social sciences, law, or business, or are introductory science, technology, engineering, or mathematics courses ordinarily required for the completion of graduate degree programs in the humanities, social sciences, law, or business, and participation in all activities related to the provision of such online educational services to Iranian students described in paragraph (b).

(2) Exportation of Software. The exportation of software to Iranian students described in paragraph (b) in order to facilitate participation in the activities authorized in (i) paragraph (a) of this general license or (ii) paragraph (b)(1)(iii) of Iran General License G, provided such software is designated as EAR99 under the Export Administration Regulations, 15 CFR parts 730 through 774 (EAR), or constitutes information or software not subject to the EAR pursuant to 15 CFR 734.3(b)(3).

(b) Iranian students referred to in paragraph (a) are individuals located in Iran, or located outside Iran but who are ordinarily resident in Iran, who are eligible for non-immigrant classification under categories F (students) or M (non-academic students), and have been granted a non-immigrant visa by the U.S. State Department, but are not physically present in the United States due to the COVID-19 pandemic.

(c) This general license does not authorize the exportation or reexportation of any services or software to the Government of Iran or any other person whose property and interests in property are blocked pursuant to 31 CFR chapter V.

(d) Effective August 24, 2021, General License M, dated October 29, 2020, is replaced and superseded in its entirety by this General License M-1.

Note 1 to General License M-1. The importation from Iran and the exportation to Iran of information or informational materials, as defined in 31 CFR 560.315, whether commercial or otherwise, regardless of format or medium of transmission, are exempt from the prohibitions of 31 CFR part 560. See 31 CFR 560.210(c).

Note 2 to General License M-1. U.S. persons are authorized to engage in the exportation of certain educational services under Iran General License G, which was issued pursuant to 31 CFR part 560, and to export, reexport, and provide certain services, software, and hardware incident to personal communications under Iran General License D-1, which was issued pursuant to 31 CFR part 560.

Bradley T. Smith,

Acting Director, Office of Foreign Assets Control.

Dated: August 24, 2021.

OFFICE OF FOREIGN ASSETS CONTROL

Iranian Transactions and Sanctions Regulations

31 CFR Part 560

GENERAL LICENSE M-2

Authorizing the Exportation of Certain Graduate Level Educational Services and Software

(a) Except as provided in paragraph (c) of this general license, accredited graduate and undergraduate degree-granting academic institutions located in the United States (collectively, “U.S. academic institutions”), including their contractors, are authorized through 12:01 a.m. eastern daylight time, September 1, 2023, to engage in the following activities with respect to Iranian students described in paragraph (b):

(1) Online Educational Services. The provision of online educational services related to graduate educational courses, provided that the courses are the equivalent of courses ordinarily required for the completion of graduate degree programs in the humanities, social sciences, law, or business, or are introductory science, technology, engineering, or mathematics courses ordinarily required for the completion of graduate degree programs in the humanities, social sciences, law, or business, and participation in all activities related to the provision of such online educational services to Iranian students described in paragraph (b).

(2) Exportation of Software. The exportation of software to Iranian students described in paragraph (b) in order to facilitate participation in the activities authorized in (i) paragraph (a) of this general license or (ii) paragraph (b)(1)(iii) of Iran General License G, provided such software is designated as EAR99 under the Export Administration Regulations, 15 CFR parts 730 through 774 (EAR), or constitutes information or software not subject to the EAR pursuant to 15 CFR 734.3(b)(3).

(b) Iranian students referred to in paragraph (a) are individuals located in Iran, or located outside Iran but who are ordinarily resident in Iran, who are eligible for non-immigrant classification under categories F (students) or M (non-academic students), and have been granted a non-immigrant visa by the U.S. State Department, but are not physically present in the United States due to the COVID-19 pandemic.

(c) This general license does not authorize the exportation or reexportation of any services or software to the Government of Iran or any other person whose property and interests in property are blocked pursuant to 31 CFR chapter V.

(d) Effective August 25, 2022, General License M-1, dated August 24, 2021, is replaced and superseded in its entirety by this General License M-2.

Note 1 to General License M-2. The importation from Iran and the exportation to Iran of information or informational materials, as defined in 31 CFR 560.315, whether commercial or otherwise, regardless of format or medium of transmission, are exempt from the prohibitions of 31 CFR part 560. See 31 CFR 560.210(c).

Note 2 to General License M-2. U.S. persons are authorized to engage in the exportation of certain educational services under Iran General License G, which was issued pursuant to 31 CFR part 560, and to export, reexport, and provide certain services, software, and hardware incident to personal communications under Iran General License D-1, which was issued pursuant to 31 CFR part 560.

Bradley T. Smith,

Deputy Director, Office of Foreign Assets Control.

Dated: August 25, 2022.

Andrea M. Gacki,
Director, Office of Foreign Assets Control.

[FR Doc. 2022-20418 Filed 9-26-22; 8:45 am]

BILLING CODE 4810-AL-P